DEPARTMENT OF COMMERCE

International Trade Administration

[A-570-973]

Certain Steel Wheels From the People's Republic of China: Postponement of Preliminary Determination of Antidumping Duty Investigation

AGENCY: Import Administration, International Trade Administration, Department of Commerce.

DATES: Effective Date: August 17, 2011.

FOR FURTHER INFORMATION CONTACT: Brendan Quinn or Raquel Silva, AD/CVD Operations, Office 8, International Trade Administration, U.S. Department of Commerce, 14th Street and Constitution Avenue, NW., Washington, DC 20230; telephone: (202) 482-5848 and (202) 482-6475, respectively.

SUPPLEMENTARY INFORMATION:

Postponement of Preliminary Determination

On April 19, 2011, the Department of Commerce (“the Department”) initiated an antidumping duty investigation on certain steel wheels from the People's Republic of China.¹ The notice of initiation stated that, unless postponed, the Department would issue its preliminary determination no later than 140 days after the date of issuance of the initiation, in accordance with section 733(b)(1)(A) of the Tariff Act of 1930, as amended (“the Act”). The preliminary determination is currently due no later than September 6, 2011.

¹ See Certain Steel Wheels From the People's Republic of China: Initiation of Antidumping Duty Investigation, 76 FR 23294 (April 26, 2011).

On August 5, 2011, Accuride Corporation and Hayes Lemmerz International, Inc. (collectively, “Petitioners”), made a timely request, pursuant to section 733(c)(1) of the Act, for a postponement of the preliminary determination in order to provide additional time for the Department to collect and analyze information for the preliminary determination.² Because there are no compelling reasons to deny the request, in accordance with section 733(c)(1)(A) of the Act, the Department is postponing the deadline for the preliminary determination by 50 days.

² See Petitioners' letter regarding, “Request for Extension of Preliminary Determination: Certain Steel Wheels from China,” dated August 5, 2011.

A postponement of 50 days from the current deadline of September 6, 2011, would result in a new deadline of October 26, 2011. The deadline for the final determination will continue to be 75 days after the date of the preliminary determination, unless extended.

This notice is issued and published pursuant to section 733(c)(2) of the Act and 19 CFR 351.205(f)(1).

Dated: August 11, 2011.
Paul Piquado,
Acting Deputy Assistant Secretary for Import Administration.

[FR Doc. 2011-21004 Filed 8-16-11; 8:45 am]

BILLING CODE 3510-DS-P